GENERAL SERVICES ADMINISTRATION

[OMB Control No. 3090-0080]; [Docket 2015-0001; Sequence 2]

General Services Administration Acquisition Regulation; Information Collection; Contract Financing Final Payment (GSA Form 1142 Release of Claims)

AGENCY: Office of Acquisition Policy, GSA.

ACTION: Notice of request for comments regarding an extension to an existing OMB clearance.

SUMMARY: Under the provisions of the Paperwork Reduction Act, the Regulatory Secretariat will be submitting to the Office of Management and Budget (OMB) a request to review and approve an extension of a previously approved information collection requirement and the reinstatement of GSA Form 1142, Release of Claims, regarding final payment under construction and building services contract. GSA Form 1142 was inadvertently deleted as part of the rewrite of GSAR regulations on Contract Financing. GSA Contracting Officers have used this form to achieve uniformity and consistency in the release of claims process.

DATES: Submit comments on or before: April 28, 2015.

FOR FURTHER INFORMATION CONTACT: Ms. Dana Munson, General Services Acquisition Policy Division, GSA, (202) 357-9652 or email Dana.Munson@gsa.gov.

ADDRESSES: Submit comments identified by Information Collection 3090-0080, Contract Financing Final Payment; (GSA Form 1142, Release of Claims) by any of the following methods:

• Regulations.gov: http://www.regulations.gov. Submit comments via the Federal eRulemaking portal by searching the OMB Control number 3090-0080. Select the link “Comment Now” that corresponds with “Information Collection 3090-0080, Contract Financing Final Payment; (GSA Form 1142, Release of Claims).” Follow the instructions on the screen. Please include your name, company name (if any), and “Information Collection 3090-0080, Contract Financing Final Payment; (GSA Form 1142, Release of Claims),” on your attached document.

• Fax: 202-501-4067.

• Mail: General Services Administration, Regulatory Secretariat (MVCB), 1800 F Street NW., Washington, DC 20405. ATTN: Ms. Hada Flowers/IC 3090-0080, Contract Financing Final Payment; (GSA Form 1142, Release of Claims).

Instructions: Please submit comments only and cite Information Collection 3090-0080, Contract Financing Final Payment; (GSA Form 1142, Release of Claims), in all correspondence related to this collection. All comments received will be posted without change to http://www.regulations.gov, including any personal and/or business confidential information provided.

SUPPLEMENTARY INFORMATION:

A. Purpose

The General Services Administration Acquisition Regulation (GSAR) clause 552.232-72 requires construction and building services contractors to submit a release of claims before final payment is made to ensure contractors are paid in accordance with their contract requirements and for work performed. GSA Form 1142, Release of Claims is used to achieve uniformity and consistency in the release of claims process.

B. Annual Reporting Burden

Respondents: 2000.

Responses per Respondent: 1.

Hours per Response: .10.

Total Burden Hours: 200.

C. Public Comment

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat (MVCB), 1800 F Street NW., Washington, DC 20405, telephone (202) 501-4755. Please cite OMB Control No. 3090-0080, Contract Financing Final Payment; (GSA Form 1142, Release of Claims), in all correspondence.

Dated: February 24, 2015.
Jeffrey A. Koses,
Director, Office of Acquisition Policy, Office of Government-wide Policy.

[FR Doc. 2015-04116 Filed 2-26-15; 8:45 am]

BILLING CODE 6820-61-P